DEPARTMENT OF HOMELAND SECURITY

Coast Guard

[USCG-2005-21802]

National Offshore Safety Advisory Committee; Vacancies

AGENCY: Coast Guard, DHS.

ACTION: Request for applications.

SUMMARY: The Coast Guard seeks applications for membership on the National Offshore Safety Advisory Committee (NOSAC). NOSAC provides advice and makes recommendations to the Coast Guard on matters affecting the offshore industry.

DATES: Application forms should reach the Coast Guard on or before September 30, 2005.

ADDRESSES: You may request an application form by writing to Commandant (G-MSO-2), U.S. Coast Guard, 2100 Second Street, SW., Washington, DC 20593-0001; by calling 202-267-1082; or by faxing 202-267-4570. A copy of the application form is also available from the Coast Guard's Advisory Committee Web page at: http://www.uscg.mil/hq/g-m/advisory/index.htm. Send your application in written form to the above street address. This notice is available on the Internet at http://dms.dot.gov.

FOR FURTHER INFORMATION CONTACT: Commander John M. Cushing, Executive Director of NOSAC, or James M. Magill, Assistant to the Executive Director, telephone 202-267-1082, fax 202-267-4570.

SUPPLEMENTARY INFORMATION: NOSAC is a Federal advisory committee established under the provisions of the Federal Advisory Committee Act (FACA), 5 U.S.C. App. 2 (Pub. L. 92-463, 86 Stat. 770, as amended). It consists of 15 regular members who have particular knowledge and experience regarding offshore technology, equipment, safety and training, as well as environmental expertise in the exploration or recovery of offshore mineral resources. It provides advice and makes recommendations to the Assistant Commandant for Marine Safety, Security and Environmental Protection regarding safety, security and rulemaking matters relating to the offshore mineral and energy industries. This advice assists the Coast Guard in developing policy and regulations and formulating the positions of the United States in advance of meetings of the International Maritime Organization.

NOSAC meets twice a year, with one of these meetings being held at Coast Guard Headquarters in Washington, DC. It may also meet for extraordinary purposes. Its subcommittees and working groups may meet to consider specific problems as required.

We will consider applications for seven positions. These positions will begin in January 2006. Applications should reach us by September 30, 2005, but we will consider applications received later if they arrive within a reasonable time before we make our recommendations to the Secretary of Homeland Security.

To be eligible, applicants should have experience in one of the following categories: (1) Offshore supply vessel services including geophysical services, (2) offshore operations, (3) construction of offshore facilities, (4) offshore production of petroleum, (5) offshore drilling, (6) general public interest associated with offshore activities, or (7) deepwater ports interests associated with offshore oil and gas storage. Please state on the application form which of the seven categories you are applying for. The term of office for categories (1) through (5) will be 3 years, and 4 years for categories (6) and (7). Each member will normally serve the above term, or until a replacement is appointed. Some members may serve consecutive terms. All members serve at their own expense and receive no salary, reimbursement of travel expenses, or other compensation from the Federal Government.

In support of the policy of the Coast Guard on gender and ethnic diversity, we encourage qualified women and members of minority groups to apply.

Dated: July 11, 2005.
Howard L. Hime,
Acting Director of Standards, Marine Safety, Security and Environmental Protection.

[FR Doc. 05-13956 Filed 7-14-05; 8:45 am]

BILLING CODE 4910-15-P